GENERAL SERVICES ADMINISTRATION

[OMB Control No. 3090-XXXX; Docket No. 2022-0001; Sequence No. 16]

Information Collection; GSA Equity Study on Remote Identity Proofing

AGENCY: Technology Transformation Services (TTS), General Services Administration (GSA).

ACTION: Notice of request for comments regarding a new request for an OMB clearance.

SUMMARY: Under the provisions of the Paperwork Reduction Act, GSA will be submitting to the Office of Management and Budget (OMB) a request to review and approve a new information collection requirement. The collection is to facilitate a research study in which participants will test several remote identity proofing services and respond to survey questions to gather demographic information related to the study.

DATES: Submit comments on or before November 21, 2022.

ADDRESSES: Submit comments identified by Information Collection 3090-XXXX; GSA Equity Study on Remote Identity Proofing to: http://www.regulations.gov. Submit comments via the Federal eRulemaking portal by searching for “Information Collection 3090-XXXX; GSA Equity Study on Remote Identity Proofing”. Select the link “Submit a Comment” that corresponds with “Information Collection 3090-XXXX; GSA Equity Study on Remote Identity Proofing”. Follow the instructions provided at the “Submit a Comment” screen. Please include your name, company name (if any), and “Information Collection 3090-XXXX; GSA Equity Study on Remote Identity Proofing” on your attached document. If your comment cannot be submitted using https://www.regulations.gov, call or email the points of contact in the FOR FURTHER INFORMATION CONTACT section of this document for alternate instructions.

Instructions: Please submit comments only and cite “Information Collection 3090-XXXX; GSA Equity Study on Identity Solutions”, in all correspondence related to this collection. Comments received generally will be posted without change to http://www.regulations.gov, including any personal and/or business confidential information provided. To confirm receipt of your comment(s), please check www.regulations.gov, approximately two-to-three days after submission to verify posting.

FOR FURTHER INFORMATION CONTACT: Requests for additional information should be directed to Tiffany Andrews or Gerardo E. Cruz-Ortiz by phone (202) 969-0772 or via email to identityequitystudy@gsa.gov.

SUPPLEMENTARY INFORMATION:

A. Purpose

The GSA “Equity Study on Remote Identity Proofing” will assess the impact of demographic factors on both biometric and non-biometric proofing checks. Using the NIST SP 800-63-3 Identity Assurance Level 2 (IAL2) standard as a framework, GSA will test how remote identity-proofing methods like facial verification technology perform across various demographic groups. To conduct this study, GSA is working with vendors that are compatible with the study architecture and can meet agency compliance requirements.

GSA will release the study's results in a peer-reviewed publication. The report will present a statistical analysis of failures and successes for the proofing checks and explore the causes behind negative or inconclusive results. These results will help GSA understand the current technological barriers to equitable identity-proofing services for the public.

GSA will be partnering with a recruitment agency to engage the general American public to participate in the study. Participants will be asked to share demographic information to help GSA understand if and how these variables impact the performance of various remote identity-proofing solutions; GSA will collect the participant's race, ethnicity, gender, age, income, educational level, and other demographic data.

The identity-proofing workflow will also collect the following personally identifiable information (PII): a picture of the participants' State ID Card (including name, date of birth, physical address, and document number), Social Security Number, phone number, and a picture of the participant's face. Identity-proofing vendors will delete all participant data from their systems within 24 hours of collection. GSA will retain PII data until the study is published in a peer-reviewed publication.

Furthermore, while participants are using the study's web-based platform, GSA will collect the personal mobile device hardware and software data as well as device-behavioral information (how the device and its applications are used).

GSA will share anonymized demographic information, identity-proofing results, and PII data with an academic partner that will analyze the results and assist GSA in publishing a peer-reviewable report.

Finally, upon completion of the workflows, participants will be asked to complete an exit survey that gathers feedback on their overall experience with the study.

Selected participants will be compensated for their participation in this study.

B. Annual Reporting Burden

Respondents: 2,000-4,000.

Responses per Respondent: 1.

Hours per Response: .5 hours.

Estimated Total Burden Hours: 2,000.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division by calling 202-501-4755 or emailing GSARegSec@gsa.gov. Please cite OMB Control No. “3090-XXXX, GSA Equity Study on Remote Identity Proofing” in all correspondence.

Beth Anne Killoran,
Deputy Chief Information Officer.

[FR Doc. 2022-20249 Filed 9-19-22; 8:45 am]

BILLING CODE 6820-AB-P